ENVIRONMENTAL PROTECTION AGENCY

[FRL OP-OFA-118]

Environmental Impact Statements; Notice of Availability

Responsible Agency: Office of Federal Activities, General Information 202-564-5632 or https://www.epa.gov/nepa.

Weekly receipt of Environmental Impact Statements (EIS)

Filed March 11, 2024 10 a.m. EST Through March 18, 2024 10 a.m. EST

Pursuant to 40 CFR 1506.9

Notice

Section 309(a) of the Clean Air Act requires that EPA make public its comments on EISs issued by other Federal agencies. EPA's comment letters on EISs are available at: https://cdxapps.epa.gov/cdx-enepa-II/public/action/eis/search.

EIS No. 20240045, Final Supplement, FHWA, WI, I-94 East-West (16th Street-70th Street) Milwaukee County, WI, Contact: Bethaney Bacher-Gresock 608-662-2119.

Under 23 U.S.C. 139(n)(2), FHWA has issued a single document that consists of a final environmental impact statement and record of decision. Therefore, the 30-day wait/review period under NEPA does not apply to this action.

EIS No. 20240046, Final, FAA, GA, ADOPTION—Moody Air Force Base Comprehensive Airspace Initiative, Contact: Veronda Johnson 404-305-5598.

The Federal Aviation Administration (FAA) has adopted the United States Air Force's Final EIS No. 20230064 filed 05/09/2023 with the Environmental Protection Agency. The FAA was a cooperating agency on this project. Therefore, republication of the document is not necessary under section 1506.3(b)(2) of the CEQ regulations.

EIS No. 20240047, Final, USACE, TX, Proposed Corpus Christi Ship Channel Deepening Project, Review Period Ends: 04/22/2024, Contact: Jayson Hudson 409-766-3108.

EIS No. 20240048, Draft, APHIS, NAT, Monsanto Petition (19-316-01p) for Determination of Nonregulated Status for Dicamba, Glufosinate, Quizalofop, and 2,4-D Tolerant MON 87429 Maize with Tissue-Specific Glyphosate Tolerance Facilitating the Production of Hybrid Maize Seed [OECD Unique Identifier: MON-87429-9], Comment Period Ends: 05/06/2024, Contact: Joseph Tangredi 301-851-4061.

EIS No. 20240049, Final, FRA, DC, Washington Union Station Expansion Project, Contact: Amanda Murphy 202-493-0413.

Under 23 U.S.C. 139(n)(2), FRA has issued a single document that consists of a final environmental impact statement and record of decision. Therefore, the 30-day wait/review period under NEPA does not apply to this action.

EIS No. 20240050, Final, NPS, USFWS, WA, Grizzly Bear Restoration Plan—Environmental Impact Statement North Cascades Ecosystem, Review Period Ends: 04/22/2024, Contact: Denise Shultz 360-854-7200.

EIS No. 20240051, Draft, USFS, NE, Nebraska National Forests and Grasslands Undesirable Plant Management, Comment Period Ends: 05/13/2024, Contact: Kim Dolatta 701-842-2393.

Dated: March 18, 2024.
Nancy Abrams,
Associate Director, Office of Federal Activities.

[FR Doc. 2024-06098 Filed 3-21-24; 8:45 am]

BILLING CODE 6560-50-P